DEPARTMENT OF TRANSPORTATION

Federal Aviation Administration

14 CFR Part 97

[Docket No. 30864 ; Amdt. No. 3499]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 15, 2012. The compliance date for each SIAP, associated Takeoff Minimums, and ODP is specified in the amendatory provisions.

The incorporation by reference of certain publications listed in the regulations is approved by the Director of the Federal Register as of October 15, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Division, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC, on September 28, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 NOVEMBER 2012

Galena, AK, Edward G. Pitka Sr, RNAV (GPS) RWY 25, Amdt 2A

Middleton Island, AK, Middleton Island, Takeoff Minimums and Obstacle DP, Orig

Middleton Island, AK, Middleton Island, VOR RWY 1, Amdt 3

Middleton Island, AK, Middleton Island, VOR/DME RWY 19, Amdt 6

Fayetteville, AR, Drake Field, LOC RWY 16, Amdt 16A, CANCELED

Fayetteville, AR, Drake Field, LOC-C, Orig

Fayetteville, AR, Drake Field, RNAV (GPS) RWY 16, Amdt 1

Fayetteville, AR, Drake Field, RNAV (GPS) RWY 34, Amdt 1

Fresno, CA, Fresno Yosemite Intl, RNAV (GPS) RWY 11R, Amdt 1

Fresno, CA, Fresno Yosemite Intl, RNAV (GPS) RWY 29L, Amdt 1

Fresno, CA, Fresno Yosemite Intl, Takeoff Minimums and Obstacle DP, Amdt 7

Oakland, CA, Metropolitan Oakland Intl, ILS OR LOC RWY 29, ILS RWY 29 (SA CAT I), ILS RWY 29 (CAT II), ILS RWY 29 (CAT III), Amdt 25

Denver, CO, Centennial, NDB RWY 35R, Amdt 10B, CANCELED

Denver, CO, Centennial, RNAV (GPS) RWY 17L, Orig

Denver, CO, Centennial, RNAV (GPS) RWY 28, Amdt 1

Denver, CO, Centennial, RNAV (GPS) Y RWY 35R, Amdt 1

Denver, CO, Centennial, RNAV (GPS) Z RWY 35R, Orig

Denver, CO, Denver Intl, ILS OR LOC RWY 35L, ILS RWY 35L (CAT II), ILS RWY 35L (CAT III), ILS RWY 35L (SA CAT I), Amdt 5

Denver, CO, Denver Intl, ILS OR LOC RWY 35R, ILS RWY 35R (CAT II), ILS RWY 35R (CAT III), ILS RWY 35R (SA CAT I), Amdt 3

Denver, CO, Denver Intl, RNAV (GPS) Y RWY 16L, Amdt 1

Denver, CO, Denver Intl, RNAV (GPS) Y RWY 35L, Amdt 2

Denver, CO, Denver Intl, RNAV (GPS) Y RWY 35R, Amdt 2

Denver, CO, Denver Intl, RNAV (RNP) Z RWY 7, Orig

Denver, CO, Denver Intl, RNAV (RNP) Z RWY 8, Orig

Denver, CO, Denver Intl, RNAV (RNP) Z RWY 16L, Orig

Denver, CO, Denver Intl, RNAV (RNP) Z RWY 16R, Orig

Denver, CO, Denver Intl, RNAV (RNP) Z RWY 17L, Orig

Denver, CO, Denver Intl, RNAV (RNP) Z RWY 17R, Orig

Denver, CO, Denver Intl, RNAV (RNP) Z RWY 25, Orig

Denver, CO, Denver Intl, RNAV (RNP) Z RWY 26, Orig

Denver, CO, Denver Intl, RNAV (RNP) Z RWY 34L, Orig

Denver, CO, Denver Intl, RNAV (RNP) Z RWY 34R, Orig

Denver, CO, Denver Intl, RNAV (RNP) Z RWY 35L, Orig

Denver, CO, Denver Intl, RNAV (RNP) Z RWY 35R, Orig

Fort Morgan, CO, Fort Morgan Muni, RNAV (GPS) RWY 14, Orig

Fort Morgan, CO, Fort Morgan Muni, RNAV (GPS) RWY 32, Orig

Fort Morgan, CO, Fort Morgan Muni, Takeoff Minimums and Obstacle DP, Orig

Rifle, CO, Garfield County Rgnl, LOC/DME-A, Amdt 9

Miami, FL, Kendall-Tamiami Executive, RNAV (GPS) RWY 9R, Amdt 2

Atlanta, GA, Covington Muni, RNAV (GPS) RWY 10, Amdt 1

Atlanta, GA, Covington Muni, RNAV (GPS) RWY 28, Amdt 1

Atlanta, GA, Fulton County Airport-Brown Field, RNAV (GPS) RWY 26, Amdt 1

Atlanta, GA, Fulton County Airport-Brown Field, RNAV (GPS) Y RWY 8, Amdt 1

Atlanta, GA, Fulton County Airport-Brown Field, RNAV (RNP) Z RWY 8, Amdt 1

Atlanta, GA, Hartsfield-Jackson Atlanta Intl, Takeoff Minimums and Obstacle DP, Amdt 5

Moultrie, GA, Moultrie Muni, RNAV (GPS) RWY 4, Amdt 1

Moultrie, GA, Moultrie Muni, RNAV (GPS) RWY 22, Amdt 1

Moultrie, GA, Moultrie Muni, Takeoff Minimums and Obstacle DP, Amdt 2

Moultrie, GA, Moultrie Muni, VOR RWY 22, Amdt 12, CANCELED

Osceola, IA, Osceola Muni, VOR/DME RWY 18, Amdt 1, CANCELED

Lewiston, ID, Lewiston-Nez Perce County, RNAV (GPS) Y RWY 8, Amdt 2

Lewiston, ID, Lewiston-Nez Perce County, RNAV (GPS) Y RWY 12, Amdt 2

Marion, IL, Williamson County Rgnl, RNAV (GPS) RWY 2, Amdt 1

Marion, IL, Williamson County Rgnl, RNAV (GPS) RWY 20, Amdt 1

Monroe, LA, Monroe Rgnl, ILS OR LOC RWY 4, Amdt 23

Monroe, LA, Monroe Rgnl, ILS OR LOC RWY 22, Amdt 4

Monroe, LA, Monroe Rgnl, RADAR-1, Amdt 7

Monroe, LA, Monroe Rgnl, RNAV (GPS) RWY 4, Amdt 1

Monroe, LA, Monroe Rgnl, RNAV (GPS) RWY 22, Amdt 1

Monroe, LA, Monroe Rgnl, VOR RWY 4, Amdt 18

Monroe, LA, Monroe Rgnl, VOR RWY 22, Amdt 5

Monroe, LA, Monroe Rgnl, VOR/DME RWY 4, Amdt 2

Monroe, LA, Monroe Rgnl, VOR/DME RWY 22, Amdt 9

Monroe, LA, Monroe Rgnl, VOR/DME RWY 32, Amdt 3

Bowie, MD, Freeway, Takeoff Minimums and Obstacle DP, Amdt 2

Madison, MN, Lac Qui Parle County, NDB RWY 32, Amdt 4

Madison, MN, Lac Qui Parle County, RNAV (GPS) RWY 14, Orig

Madison, MN, Lac Qui Parle County, RNAV (GPS) RWY 32, Orig

Madison, MN, Lac Qui Parle County, Takeoff Minimums and Obstacle DP, Orig

Branson West, MO, Branson West Muni—Emerson Field, RNAV (GPS) RWY 3, Amdt 1

Branson West, MO, Branson West Muni—Emerson Field, RNAV (GPS) RWY 21, Amdt 1

Circle, MT, Circle Town County, RNAV (GPS) RWY 12, Orig

Circle, MT, Circle Town County, RNAV (GPS) RWY 30, Orig

Circle, MT, Circle Town County, Takeoff Minimums and Obstacle DP, Orig

Plentywood, MT, Sher-Wood, RNAV (GPS) RWY 12, Orig

Plentywood, MT, Sher-Wood, RNAV (GPS) RWY 30, Orig

Plentywood, MT, Sher-Wood, RNAV (GPS)-A, Orig, CANCELED

Mount Olive, NC, Mount Olive Muni, VOR-A, Amdt 2

Walnut Cove, NC, Meadow Brook Field, Takeoff Minimums and Obstacle DP, Amdt 2

Wahpeton, ND, Harry Stern, NDB RWY 33, Amdt 5

Nashua, NH, Boire Field, ILS OR LOC RWY 14, Orig

Nashua, NH, Boire Field, ILS OR LOC RWY 14, Amdt 5C, CANCELED

Nashua, NH, Boire Field, NDB OR GPS RWY 14, Amdt 5, CANCELED

Nashua, NH, Boire Field, RNAV (GPS) RWY 14, Orig

Nashua, NH, Boire Field, RNAV (GPS) RWY 32, Orig

Nashua, NH, Boire Field, RNAV (GPS) RWY 32, Orig-A, CANCELED

Nashua, NH, Boire Field, Takeoff Minimums and Obstacle DP, Amdt 3

Nashua, NH, Boire Field, VOR RWY 32, Orig-A, CANCELED

Trenton, NJ, Trenton Mercer, RNAV (RNP) Y RWY 6, Orig-A

Elmira/Corning, NY, Elmira/Corning Rgnl, Takeoff Minimums and Obstacle DP, Amdt 9

Farmingdale, NY, Republic, ILS OR LOC RWY 14, Amdt 8B

Farmingdale, NY, Republic, RNAV (GPS) Y RWY 14, Amdt 2A

Malone, NY, Malone-Dufort, GPS RWY 5, Orig, CANCELED

Malone, NY, Malone-Dufort, GPS RWY 23, Orig, CANCELED

Malone, NY, Malone-Dufort, RNAV (GPS) RWY 5, Orig

Malone, NY, Malone-Dufort, RNAV (GPS) RWY 23, Orig

Malone, NY, Malone-Dufort, Takeoff Minimums and Obstacle DP, Amdt 2

Lancaster, OH, Fairfield County, LOC RWY 28, Amdt 2

Lancaster, OH, Fairfield County, RNAV (GPS) RWY 28, Amdt 1

Upper Sandusky, OH, Wyandot County, VOR-A, Amdt 3C

Portland, OR, Portland-Hillsboro, RNAV (GPS) RWY 13, Amdt 1A

Portland, OR, Portland-Hillsboro, RNAV (GPS) RWY 31, Orig-A

Rapid City, SD, Rapid City Rgnl, RNAV (GPS) RWY 32, Amdt 1A

Harlingen, TX, Valley Intl, RNAV (GPS) RWY 17L, Amdt 2

Harlingen, TX, Valley Intl, RNAV (GPS) RWY 35R, Orig

Harlingen, TX, Valley Intl, RNAV (GPS) Y RWY 13, Amdt 2

Harlingen, TX, Valley Intl, RNAV (GPS) Y RWY 31, Amdt 2

Harlingen, TX, Valley Intl, RNAV (GPS) Y RWY 35L, Amdt 2

Mason, TX, Mason County, RNAV (GPS) RWY 18, Orig

Mason, TX, Mason County, RNAV (GPS) RWY 36, Orig

Mason, TX, Mason County, Takeoff Minimums and Obstacle DP, Amdt 1

Mason, TX, Mason County, VOR/DME-A, Amdt 4

San Antonio, TX, San Antonio Intl, Takeoff Minimums and Obstacle DP, Amdt 1

Snyder, TX, Winston Field, RNAV (GPS) RWY 35, Amdt 1

Vancouver, WA, Pearson Field, LDA-A, Amdt 2

Huntington, WV, Tri-State/Milton J. Ferguson Field, ILS OR LOC RWY 12, Amdt 14

Huntington, WV, Tri-State/Milton J. Ferguson Field, ILS OR LOC RWY 30, Amdt 7

Huntington, WV, Tri-State/Milton J. Ferguson Field, RADAR-1, Amdt 8

Huntington, WV, Tri-State/Milton J. Ferguson Field, RNAV (GPS) RWY 12, Amdt 3

Huntington, WV, Tri-State/Milton J. Ferguson Field, RNAV (GPS) RWY 30, Amdt 1

Effective 13 DECEMBER 2012

Erie, PA, Erie Intl/Tom Ridge Field, ILS OR LOC/DME RWY 6, Amdt 17

Erie, PA, Erie Intl/Tom Ridge Field, ILS OR LOC/DME RWY 24, Amdt 9

Erie, PA, Erie Intl/Tom Ridge Field, Takeoff Minimums and Obstacle DP, Amdt 6

[FR Doc. 2012-25024 Filed 10-12-12; 8:45 am]

BILLING CODE 4910-13-P